OFFICE OF PERSONNEL MANAGEMENT

5 CFR Part 532

RIN 3206-AM75

Prevailing Rate Systems; Redefinition of the Minneapolis-St. Paul, MN, and Southwestern Wisconsin Appropriated Fund Federal Wage System Wage Areas

AGENCY: U.S. Office of Personnel Management.

ACTION: Proposed rule with request for comments.

SUMMARY: The U.S. Office of Personnel Management is issuing a proposed rule that would redefine the geographic boundaries of the Minneapolis-St. Paul, MN, and Southwestern Wisconsin appropriated fund Federal Wage System wage areas. The proposed rule would redefine Wabasha County, MN, from the Southwestern Wisconsin wage area to the Minneapolis-St. Paul wage area. This change is based on a recent consensus recommendation of the Federal Prevailing Rate Advisory Committee to best match Wabasha County to a nearby FWS survey area.

DATES: We must receive comments on or before January 22, 2013.

ADDRESSES: Send or deliver comments to Jerome D. Mikowicz, Deputy Associate Director for Pay and Leave, Employee Services, U.S. Office of Personnel Management, Room 7H31, 1900 E Street NW., Washington, DC 20415-8200; email pay-leave-policy@opm.gov; or FAX: (202) 606-4264.

FOR FURTHER INFORMATION CONTACT: Madeline Gonzalez, (202) 606-2838; email pay-leave-policy@opm.gov; or Fax: (202) 606-4264.

SUPPLEMENTARY INFORMATION: The U.S. Office of Personnel Management (OPM) is issuing a proposed rule that would redefine the geographic boundaries of the Minneapolis-St. Paul, MN, and Southwestern Wisconsin appropriated fund Federal Wage System wage areas. The proposed rule would redefine Wabasha County, MN, from the Southwestern Wisconsin wage area to the Minneapolis-St. Paul wage area.

OPM considers the following regulatory criteria under 5 CFR 532.211 when defining FWS wage area boundaries:

(i) Distance, transportation facilities, and geographic features;

(ii) Commuting patterns; and

(iii) Similarities in overall population, employment, and the kinds and sizes of private industrial establishments.

Dodge, Olmsted, and Wabasha Counties, MN, comprise the Rochester, MN Metropolitan Statistical Area (MSA). The Rochester MSA is split between the Minneapolis-St. Paul, MN, and Southwestern Wisconsin wage areas. Dodge and Olmsted Counties are part of the area of application of the Minneapolis-St. Paul wage area and Wabasha County is part of the area of application of the Southwestern Wisconsin wage area.

Based on an analysis of the regulatory criteria for Olmsted County, the core county in the Rochester MSA, the entire Rochester MSA would be defined to the Minneapolis-St. Paul wage area. When measuring to cities, the distance criterion does not favor one wage area more than another. Since the percentage difference between the city of Rochester and the closest cities in Minneapolis-St. Paul and Southwestern Wisconsin survey areas is less than 10 percent, distance to the closest cities is not a definitive determining factor. However, when measuring to host installations, the distance criterion favors the Minneapolis-St. Paul wage area more than the Southwestern Wisconsin wage area. The commuting patterns criterion does not favor one wage area more than another. The difference between the resident workforce commuting to work in the Minneapolis-St. Paul and Southwestern Wisconsin survey areas is insignificant; however, marginally more people commute into the Minneapolis-St. Paul survey area (1.07 percent) than into the Southwestern Wisconsin survey area (0.05 percent). The overall population and employment and the kinds and sizes of private industrial establishments criterion does not favor one wage area more than another.

Based on this analysis, we believe Olmsted County is appropriately defined to the Minneapolis-St. Paul wage area. OPM regulations at 5 CFR 532.211 permit splitting MSAs only in very unusual circumstances. There appear to be no unusual circumstances that would permit splitting the Rochester MSA. To comply with OPM regulations not to split MSAs, Wabasha County would be redefined to the Minneapolis-St. Paul wage area. The remaining county in the Rochester MSA, Dodge County, is already defined to the Minneapolis-St. Paul wage area. There are currently no FWS employees working in Wabasha County.

The Federal Prevailing Rate Advisory Committee (FPRAC), the national labor-management committee responsible for advising OPM on matters concerning the pay of FWS employees, recommended this change by consensus. This change would be effective on the first day of the first applicable pay period beginning on or after 30 days following publication of the final regulations. FPRAC recommended no other changes in the geographic definitions of the Minneapolis-St. Paul and Southwestern Wisconsin wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Minneapolis-St. Paul, MN, and Southwestern Wisconsin wage areas to read as follows:

* * * * *
MINNESOTA
* * * * *
Minneapolis-St. Paul
Survey Area
Minnesota:
Anoka
Carver
Chisago
Dakota
Hennepin
Ramsey
Scott
Washington
Wright
Wisconsin:
St. Croix
Area of Application. Survey Area Plus:
Minnesota:
Benton
Big Stone
Blue Earth
Brown
Chippewa
Cottonwood
Dodge
Douglas
Faribault
Freeborn
Goodhue
Grant
Isanti
Kanabec
Kandiyohi
Lac Qui Parle
Le Sueur
McLeod
Martin
Meeker
Mille Lacs
Morrison
Mower
Nicollet
Olmsted
Pope
Redwood
Renville
Rice
Sherburne
Sibley
Stearns
Steele
Stevens
Swift
Todd
Traverse
Wabasha
Wadena
Waseca
Watonwan
Yellow Medicine
Wisconsin:
Pierce
Polk
* * * * *
WISCONSIN
Southwestern Wisconsin
Survey Area
Wisconsin:
Chippewa
Eau Claire
Monroe
Trempealeau
Area of Application. Survey Area Plus:
Minnesota:
Fillmore
Houston
Winona
Wisconsin:
Barron
Buffalo
Clark
Crawford
Dunn
Florence
Forest
Jackson
Juneau
Langlade
Lincoln
Marathon
Marinette
Menominee
Oneida
Pepin
Portage
Price
Richland
Rusk
Shawano
Taylor
Vernon
Vilas
Waupaca
Wood
* * * * *

[FR Doc. 2012-30805 Filed 12-20-12; 8:45 am]

BILLING CODE 6325-39-P